DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Amendment 80 Permits and Reports.

OMB Control Number: 0648-0565.

Form Number(s): NA.

Type of Request: Regular submission (extension of a currently approved information collection).

Number of Respondents: 38.

Average Hours per Response: Applications for cooperative quota share, for cooperative and cooperative quota permit, and for limited access fishery permit, 2 hours; applications to transfer quota share and cooperative quota, 2 hours; annual cooperative report, 25 hours; appeals, 4 hours.

Burden Hours: 155.

Needs and Uses: This request is for extension of a currently approved information collection. Amendment 80 to the Fishery Management Plan for Groundfish of the Bering Sea and Aleutian Islands Management Area (BSAI FMP), primarily allocates BSAI non-pollock trawl groundfish fisheries among fishing sectors and facilitates the formation of harvesting cooperatives in the head-and-gut trawl catcher/processor sector. Sector allocations and associated cooperatives allow participants to focus less on harvest rate maximization and more on optimizing their harvest. This, in turn, allows a reduction in unwanted incidental catch, improved retention, improved utilization, and improved economic health of the head-and-gut trawl catcher/processor sector. Amendment 80 established a limited access privilege program for the non-American Fisheries Act trawl catcher/processor sector.

The Amendment 80 permits and reports collection provides participants with a management system that allows for improved efficiency by providing an environment in which, revenues can be increased and operating costs can be reduced. Depending on the magnitude of these potential efficiency gains and the costs of bycatch reduction, increases in efficiency could be used to cover the costs of bycatch reduction measures or provide additional benefits to participants.

Licenses and vessels used to qualify for the Amendment 80 Program (either to be included in the non-AFA trawl catcher/processor sector or to be used in Amendment 80 cooperative formation) are restricted from being used outside of the Amendment 80 sector, except that any eligible vessel authorized to fish pollock under the AFA would still be authorized to fish under this statute.

Fishery participants that join a cooperative receive an exclusive harvest privilege not subject to harvest by other vessel operators; may consolidate fishing operations on a specific vessel or subset of vessels, thereby reducing monitoring and enforcement and other operational costs; and harvest fish in a more economically efficient and less wasteful manner.

Affected Public: Business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 19, 2010.
Gwellnar Banks,
Management Analyst, Office of the Chief Information Officer.

[FR Doc. 2010-21061 Filed 8-24-10; 8:45 am]

BILLING CODE 3510-22-P